Title 3—

The President

Proclamation 8200 of October 31, 2007

National Alzheimer's Disease Awareness Month, 2007

By the President of the United States of America

A Proclamation

National Alzheimer's Disease Awareness Month is an opportunity to honor and support those living with Alzheimer's disease. During this month, we also seek to express our gratitude to the family members and caretakers who love and comfort those afflicted, and we renew our commitment to finding a cure to this devastating disease.

The greatest risk factor for Alzheimer's disease is age. Scientists are studying how other factors such as family history, nutrition, environment, and education, also affect an individual's risk for Alzheimer's disease. The National Institutes of Health and the Department of Veterans Affairs continue to conduct research to better prevent, detect, and treat Alzheimer's disease and provide information and support to caretakers and families.

During National Alzheimer's Disease Awareness Month, we recognize the millions of Americans affected by this tragic disease and honor those who have lost their lives to Alzheimer's. Americans are grateful for the resolve and dedication of medical professionals, scientific researchers, family members, and caregivers who give their time and talents and help provide hope to many.

NOW, THEREFORE, I, GEORGE W. BUSH, President of the United States of America, by virtue of the authority vested in me by the Constitution and laws of the United States, do hereby proclaim November 2007 as National Alzheimer's Disease Awareness Month. I call upon the people of the United States to observe this month with appropriate programs and activities.

IN WITNESS WHEREOF, I have hereunto set my hand this thirty-first day of October, in the year of our Lord two thousand seven, and of the Independence of the United States of America the two hundred and thirty-second.

[FR Doc. 07-5547

Filed 11-2-07; 8:53 am]

Billing code 3195-01-P